DEPARTMENT OF THE INTERIOR

Bureau of Ocean Energy Management

Geological and Geophysical Exploration (G&G) on the Mid- and South Atlantic Outer Continental Shelf (OCS)

AGENCY: Bureau of Ocean Energy Management (BOEM), Interior.

ACTION: Notice of Availability (NOA) of the Final Programmatic Environmental Impact Statement (EIS) for proposed G&G Activities on the Mid- and South Atlantic OCS.

SUMMARY: Consistent with the regulations implementing the National Environmental Policy Act (NEPA), as amended (42 U.S.C. 4321 et seq.), BOEM has prepared a Final Programmatic EIS to describe and evaluate the potential environmental impacts associated with reasonably foreseeable G&G survey activities in Federal waters overlying the Mid- and South Atlantic OCS, as well as potentially interconnected or interrelated activities in adjacent State waters, as described in the Supplemental Information section below. These activities include, but are not limited to, seismic surveys (deep penetration and high-resolution geophysical), electromagnetic surveys, geological and geochemical sampling, and remote sensing surveys. The Final Programmatic EIS covers reasonably foreseeable G&G activities associated with the three program areas managed by BOEM on the OCS (i.e., oil and gas exploration and development, renewable energy, and marine minerals). The Final Programmatic EIS also evaluates mitigating measures to reduce potential impacts of G&G activities on marine resources, such as sound impacts to marine species and bottom-disturbance impacts on benthic communities and cultural resources.

DATES: Comments should be submitted no later than April 7, 2014.

ADDRESSES: Comments may be submitted in one of the following three ways:

1. In written form enclosed in an envelope labeled “Comments on the Final Programmatic EIS for the Mid- and South Atlantic” and mailed (or hand carried) to Mr. Gary D. Goeke, Chief, Environmental Assessment Section, Office of Environment (GM 623E), Bureau of Ocean Energy Management, Gulf of Mexico OCS Region, 1201 Elmwood Park Boulevard, New Orleans, Louisiana 70123-2394;

2. Electronically to BOEM's email address: ggeis@boem.gov; or

3. Through the regulations.gov web portal: Navigate to http://www.regulations.gov and search for “Geological and Geophysical Activities in Mid and South Atlantic” (Note: It is important to include the quotation marks in your search terms.) Click on the “Comment Now!” button to the right of the document link. Enter your information and comment, then click “Submit”.

FOR FURTHER INFORMATION CONTACT: For more information on the Final Programmatic EIS, you may contact Mr. Gary D. Goeke, Chief, Environmental Assessment Section, Office of Environment (GM 623E), Bureau of Ocean Energy Management, Gulf of Mexico OCS Region, 1201 Elmwood Park Boulevard, New Orleans, Louisiana 70123-2394, or by email at ggeis@boem.gov. You may also contact Mr. Goeke by telephone at (504) 736-3233.

SUPPLEMENTARY INFORMATION: The Programmatic EIS was prepared to analyze potential environmental impacts from multiple G&G activities in the OCS Mid- and South Atlantic Planning Areas, and interconnected or interrelated activities in adjacent State waters. Development of this Programmatic EIS was also directed under the Conference Report accompanying the FY 2010 Department of the Interior, Environment and Related Agencies Appropriations Act (Pub. L. 111-88).

The Area of Interest (AOI), also known as the affected environment or area of potential effects, for the Programmatic EIS includes U.S. Atlantic waters and submerged lands from the mouth of Delaware Bay to just south of Cape Canaveral, Florida, and from the shoreline to 350 nautical miles from shore. While G&G activities in State waters are not within the jurisdiction of BOEM, the AOI also encompasses adjacent State waters (excluding estuaries) because related G&G activities could extend into State waters or because G&G activities in waters overlying the OCS could impact resources in or migrating through adjacent State waters, e.g. through the introduction of acoustic energy into those waters. The activity scenario and associated impact assessment contained in the Final Programmatic EIS extend to 2020.

The Draft Programmatic EIS was published on March 30, 2012 and the public comment period closed on July 2, 2012. BOEM received over 55,000 comment submissions from federal, state and local governmental organizations, non-governmental organizations, industry and private citizens electronically and via hard copy. These comments were considered and evaluated in preparing the Final Programmatic EIS. Within the Final Programmatic EIS, BOEM presents the baseline conditions, analyzes reasonably foreseeable impacts to marine resources and, where applicable, identifies and analyzes potential mitigation and monitoring measures to avoid, reduce, or minimize potential impacts. It also establishes a framework for future environmental analyses of site-specific activities before BOEM authorizes any individual permits for those activities.

The Final Programmatic EIS identifies BOEM's Preferred Alternative which provides programmatic-level mitigation, monitoring and reporting requirements meant to reduce the potential for adverse impacts to Mid- and South Atlantic resources from reasonably foreseeable G&G activities across all three BOEM program areas. It also includes an adaptive management strategy that, through site-specific NEPA analysis, will incorporate new information, establish additional measures and/or adjust existing measures based on monitoring results.

Please note that the Final Programmatic EIS does not address the potential environmental effects of oil and gas leasing, development, or production in the Mid- and South Atlantic. BOEM has not proposed oil and gas leasing, development or production in the Mid- and South Atlantic at this time, and additional environmental analyses would be necessary prior to proceeding with any such activities.

Final Programmatic EIS Availability: In keeping with the Department of the Interior's mission to protect natural resources and to limit costs while ensuring availability of the document to the public, BOEM will primarily distribute digital copies of the Final Programmatic EIS on compact discs. However, BOEM has printed and will be distributing a limited number of paper copies. If you require a paper copy, BOEM will provide one upon request if copies are still available.

1. You may request a hard copy or compact disc of the Final Programmatic EIS from the Bureau of Ocean Energy Management, Gulf of Mexico OCS Region, Public Information Office (GM 335A), 1201 Elmwood Park Boulevard, Room 250, New Orleans, Louisiana 70123-2394 (1-800-200-GULF (4853)).

2. You may download or view the Final Programmatic EIS on BOEM's project Web site at http://.boem.gov/and-Gas-Energy-Program//.aspx or on BOEM's EIS Web site at http://www.boem.gov/nepaprocess/.

Several libraries along the Atlantic Coast have been sent copies of the Final Programmatic EIS. To find out which libraries have copies of the Final Programmatic EIS for review, you may contact BOEM's Public Information Office or visit BOEM's Internet Web site at http://www.boem.gov/nepaprocess/.

Public Disclosure of Names and Addresses: Before including your address, telephone number, email address, or other personal identifying information in your comment, be advised that your entire comment, including your personal identifying information, may be made publicly available at any time. While you can ask us in your comment to withhold from public review your personal identifying information, we cannot guarantee that we will be able to do so.

Authority: This NOA is published pursuant to the regulations (40 CFR part 1503) implementing the provisions of NEPA, as amended (42 U.S.C. 4321 et seq.).

Dated: January 10, 2014.
Tommy P. Beaudreau,
Director, Bureau of Ocean Energy Management.

[FR Doc. 2014-05046 Filed 3-6-14; 8:45 am]

BILLING CODE 4310-MR-P